DEPARTMENT OF DEFENSE

Department of the Navy

Notice of Intent To Grant Exclusive Technology Evaluation License; EnZinc, Inc.

AGENCY: Department of the Navy, DoD.

ACTION: Notice.

SUMMARY: The Department of the Navy hereby gives notice of its intent to grant to EnZinc, Inc. a revocable, nonassignable, exclusive technology evaluation license to practice in the field of use of zinc-air batteries and nickel-zinc (Ni-Zn) batteries in the United States, the Government-owned inventions described in U.S. Patent Application No. 13/245,792: Dual-Function Air Cathode Nanoarchitectures for Metal-Air Batteries with Pulse-Power Capability, Navy Case No. 100,774 and U.S. Patent Application No. 13/832,576: Zinc Electrodes for Batteries, Navy Case No. 102,137 and any continuations, divisionals or re-issues thereof.

DATES: Anyone wishing to object to the grant of this license must file written objections along with supporting evidence, if any, not later than April 1, 2014.

ADDRESSES: Written objections are to be filed with the Naval Research Laboratory, Code 1004, 4555 Overlook Avenue SW., Washington, DC 20375-5320.

FOR FURTHER INFORMATION CONTACT: Rita Manak, Head, Technology Transfer Office, NRL Code 1004, 4555 Overlook Avenue SW., Washington, DC 20375-5320, telephone 202-767-3083. Due to U.S. Postal delays, please fax 202-404-7920, email: rita.manak@nrl.navy.mil or use courier delivery to expedite response.

Authority: 35 U.S.C. 207, 37 CFR part 404.

Dated: March 7, 2014.
N.A. Hagerty-Ford,
Commander, Office of the Judge Advocate General, U.S. Navy, Federal Register Liaison Officer.

[FR Doc. 2014-05768 Filed 3-14-14; 8:45 am]

BILLING CODE 3810-FF-P